DEPARTMENT OF ENERGY

Federal Energy Regulatory Commission

[Project No. 6780-069]

Yuba County Water Agency Hydro Sierra Energy LLC; Notice of Application for Transfer of License and Soliciting Comments and Motions To Intervene

On July 9, 2014, Yuba County Water Agency (transferor) and Hydro Sierra Energy LLC (transferee) filed an application for transfer of license of the Deadwood Creek Hydroelectric Project located on the Deadwood Creek in Yuba County, California.

The transferor and transferee seek Commission approval to transfer the license for the Deadwood Creek Hydroelectric Project from the transferor to the transferee.

Applicant Contacts: For Transferor: Mr. Kevin Goishi, Project Manager, Yuba County Water Agency, 1220 F Street, Marysville, CA 95901, Phone: 530-740-7082, Email: kgoishi@ycwa.com and Mr. Michael A. Swiger, Van Ness Feldman, LLP, 1050 Thomas Jefferson St. NW., Seventh Floor, Washington, DC 20007-3877, Phone: 202-298-1891, Email: mas@vnf.com. For Transferee: Mr. Jeffrey B. Straubel, Hydro Sierra Energy LLC, 3500 Deer Creek Road, Palo Alto, CA 94304, Phone: 650-681-5280, Email: jb@teslamotors.com.

FERC Contact: Patricia W. Gillis, (202) 502-8735.

Deadline for filing comments and motions to intervene: 30 days from the issuance date of this notice, by the Commission. The Commission strongly encourages electronic filing. Please file motions to intervene and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-6780-069.

Dated: July 17, 2014.
Kimberly D. Bose,
Secretary.

[FR Doc. 2014-17358 Filed 7-23-14; 8:45 am]

BILLING CODE 6717-01-P